FEDERAL RESERVE SYSTEM

Formations of, Acquisitions by, and Mergers of Bank Holding Companies; Correction

This notice corrects a notice (FR Doc. 02-17355) published on pages 45733-45734 of the issue for Wednesday, July 10, 2002.

Under the Federal Reserve Bank of San Francisco heading, the entry for UCBH Holdings, Inc., San Francisco, California, is revised to read as follows:

A. Federal Reserve Bank of San Francisco (Maria Villanueva, Consumer Regulation Group) 101 Market Street, San Francisco, California 94105-1579:

1. UCBH Holdings, Inc., San Francisco, California; to acquire up to 100 percent of the voting shares of Bank of Canton of California, San Francisco, California.

Comments on this application must be received by August 24, 2002.

Board of Governors of the Federal Reserve System, August 2, 2002.
Jennifer J. Johnson,
Secretary of the Board.

[FR Doc. 02-20006 Filed 8-6-02; 8:45 am]

BILLING CODE 6210-01-S